DEPARTMENT OF THE INTERIOR

Bureau of Indian Affairs

Proclaiming Certain Lands as Reservation for the Nottawaseppi Huron Band of Potawatomi Indians of Michigan

AGENCY: Bureau of Indian Affairs, Interior.

ACTION: Notice of Reservation Proclamation.

SUMMARY: This notice informs the public that the Assistant Secretary—Indian Affairs proclaimed approximately 78.26 acres, more or less, as the Nottawaseppi Huron Band of Potawatomi Indian Reservation for the Nottawaseppi Huron Band of Potawatomi Indians of Michigan.

FOR FURTHER INFORMATION CONTACT: Ben Burshia, Bureau of Indian Affairs, Division of Real Estate Services, 1849 C Street, NW., Mail Stop-4639-MIB, Washington, DC 20240, telephone (202) 208-7737.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be the Nottawaseppi Huron Band of Potawatomi Indian Reservation for the exclusive use of Indians on that reservation who are entitled to reside at the reservation by enrollment or tribal membership.

Michigan Meridian

Calhoun County, State of Michigan; Sackrider Parcel

Commencing at the West ¼ post of Section 13, Town 2 South, Range 7 West, Emmett Township, Calhoun County, Michigan; thence North 00 degrees 03′ 28″ East along the West line of said Section, 46.99 feet to the Southerly line of the exit ramp for I-94, as recorded in Liber 898 on page 4, in the Office of the Register of Deeds for Calhoun County, Michigan; thence North 89 degrees 06′ 09″ East along said Southerly line, 214.69 feet; thence 362.37 feet along the arc of a curve to the left whose radius measures 362.0 feet and whose chord bears North 60 degrees 2′ 31″ East, 347.43 feet; thence North 31 degrees 44′ 56″ East, 263.62 feet; thence North 59 degrees 52′ 54″ East, 81.39 feet to the place of beginning; thence continuing North 59 degrees 52′ 54″ East, 181.87 feet; thence South 78 degrees 01′ 12″ East, 472.30 feet; thence South 76 degrees 27′ 00″ East 1357.31 feet; thence South 00 degrees 04′ 24″ West, 205.69 feet to the Northwest corner of Lot 21 of the Supervisor's plat of Wagner Acres, as recorded in Liber 11 of plats, on page 21, in the Office of the Register of Deeds for Calhoun County, Michigan; thence South 00 degrees 4′ 24″ West along the West line of said Plat, 1992.58 feet to the centerline of Michigan Avenue; thence North 55 degrees 29′ 21″ West along said centerline, 2350.98 feet; thence North 00 degrees 03′ 28″ East, 1191.07 feet to the place of beginning.

The above-described lands contain a total of 78.26 acres, more or less, which is subject to all valid rights, reservations, rights-of-way, and easements of record.

This proclamation does not affect title to the land described above, nor does it affect any valid existing easements for public roads and highways, public utilities and for railroads and pipelines and any other rights-of-way or reservations of record.

Dated: October 15, 2007.
Carl J. Artman,
Assistant Secretary—Indian Affairs.

[FR Doc. E7-22158 Filed 11-9-07; 8:45 am]

BILLING CODE 4310-W7-P